NATIONAL AERONAUTICS AND SPACE ADMINISTRATION

[Notice (03-034)]

Notice of Prospective Patent License

AGENCY: National Aeronautics and Space Administration.

ACTION: Notice of prospective patent license.

SUMMARY: NASA hereby gives notice that A+FlowTek Corporation, of Kingwood, Texas, has applied for an exclusive license to practice the invention disclosed in NASA Case No. MFS-31952-1 entitled “Balance Flow Meter.” Written objections to the prospective grant of a license should be sent to James J. McGroary, Patent Counsel, Mail Stop LS01, Marshall Space Flight Center, Huntsville, AL 35812. NASA has not yet made a determination to grant the requested license and may deny the requested license even if no objections are submitted within the comment period.

DATE: Responses to this notice must be received by April 15, 2003.

FOR FURTHER INFORMATION CONTACT: Sammy A. Nabors, Technology Transfer Department/CD30, Marshall Space Flight Center, Huntsville, AL 35812, telephone (256) 544-5226.

Dated: March 21, 2003.
Robert M. Stephens,
Deputy General Counsel.

[FR Doc. 03-7541 Filed 3-28-03; 8:45 am]

BILLING CODE 7510-01-P